DEPARTMENT OF COMMERCE

International Trade Administration

Initiation of Antidumping and Countervailing Duty Administrative Reviews

AGENCY: Import Administration, International Trade Administration, Department of Commerce.

SUMMARY: The Department of Commerce (the Department) has received requests to conduct administrative reviews of various antidumping and countervailing duty orders and findings with September anniversary dates. In accordance with the Department's regulations, we are initiating those administrative reviews.

EFFECTIVE DATE: October 31, 2007.

FOR FURTHER INFORMATION CONTACT: Sheila E. Forbes, Office of AD/CVD Operations, Customs Unit, Import Administration, International Trade Administration, U.S. Department of Commerce, 14th Street and Constitution Avenue, NW, Washington, DC 20230, telephone: (202) 482-4697.

SUPPLEMENTARY INFORMATION:

Background

The Department has received timely requests, in accordance with 19 CFR 351.213(b) (2007), for administrative reviews of various antidumping and countervailing duty orders and findings with September anniversary dates.

Initiation of Reviews:

In accordance with sections 19 CFR 351.221(c)(1)(i), we are initiating administrative reviews of the following antidumping and countervailing duty orders and findings. We intend to issue the final results of these reviews not later than September 30, 2008.

Antidumping Duty Proceedings | Period to be Reviewed
INDIA: Certain Lined Paper Products
A-533-843 | 4/17/06 - 8/31/07
Blue Bird India Ltd.
Creative Divya
Exel India Pvt. Ltd.
FFI International
Global Art India Inc.
Kejriwal Exports
Kejriwal Paper Limited
M/S Super ImpEx
Magic International
Marigold ExIm Pvt. Ltd.
Marisa International
Navneet Publications (India) Ltd.
Pioneer Stationery Pvt. Ltd.
Rajvansh International
Ria ImpEx Pvt. Ltd.
Riddhi Enterprises
SAB International
TKS Overseas
Unlimited Accessories Worldwide
V. Joshi Co.
LATVIA: Steel Concrete Reinforcing Bars
A-449-804 | 9/1/06 - 8/31/07
Joint Stock Company Liepajas Metalurgs
THE PEOPLE'S REPUBLIC OF CHINA: Certain Lined Paper Products¹
A-570-901 | 4/17/06 8/31/07
Hwa Fuh Plastics Co., Ltd./Li Teng Plastics (Shenzhen) Co., Ltd.
Leo's Quality Products Co., Ltd./Denmax Plastic Stationery Factory
Watanabe Group (consisting of the following companies):
Watanabe Paper Products (Shanghai) Co., Ltd.
Watanabe Paper Products (Linqing) Co., Ltd.
Hotrock Stationery (Shenzhen) Co., Ltd.
Shanghai Lian Li Paper Products Co., Ltd.
THE PEOPLE'S REPUBLIC OF CHINA: Freshwater Crawfish Tail Meat²
A-570-848 | 9/1/06 - 8/31/07
Anhui Tongxin Aquatic Product & Food Co., Ltd.
Jingdezhen Garay Foods Co., Ltd.
Shanghai Now Again International Trading Co., Ltd.
Xiping Opeck Food Co., Ltd.
Xuzhou Jinjiang Foodstuffs Co., Ltd.
Yancheng Hi-King Agriculture Developing Co., Ltd.
Countervailing Duty Proceedings
INDIA: Certain Lined Paper Products
C-533-844 | 2/13/06 12/31/06
Navneet Publications (India) Limited
Suspension Agreements
None.
¹ If one of the above named companies does not qualify for a separate rate, all other exporters of certain lined paper products from the People's Republic of China who have not qualified for a separate rate are deemed to be covered by this review as part of the single PRC entity of which the named exporters are a part.
² If one of the above named companies does not qualify for a separate rate, all other exporters of freshwater crawfish tail meat from the People's Republic of China who have not qualified for a separate rate are deemed to be covered by this review as part of the single PRC entity of which the named exporters are a part.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 USC 1675(a)) and 19 CFR 351.221(c)(1)(I).

Dated: October 24, 2007.
Edward Yang,
Acting Deputy Assistant Secretary for Import Administration.

[FR Doc. E7-21453 Filed 10-30-07; 8:45 am]

BILLING CODE 3510-DS-S